DEPARTMENT OF VETERANS AFFAIRS

Health Services Research and Development Service, Scientific Merit Review Board; Notice of Meetings

The Department of Veterans Affairs (VA) gives notice under the Federal Advisory Committee Act that the subcommittees of the Health Services Research and Development Service Scientific Merit Review Board will be held on the dates below from 8:00 a.m. to approximately 4:30 p.m. (unless otherwise listed) at the 20 F Street Conference Center, 20 F Street NW, Washington, DC 20001:

Meeting | Date(s)
HSR&D Long-Term Care, Aging and Support Services Subcommittee | August 20, 2019.
HSR&D Health Care and Clinical Management Subcommittee | August 20-21, 2019.
HSR&D Behavioral, Social, and Cultural Determinants of Health and Care Subcommittee | August 20-21, 2019.
HSR&D Mentored Research Subcommittee | August 20-22, 2019.
HSR&D Randomized Program Evaluations Subcommittee | August 21-22, 2019.
HSR&D QUERI Subcommittee | August 21-22, 2019.
HSR&D Healthcare Informatics Subcommittee | August 22-23, 2019.
HSR&D Mental and Behavioral Health Subcommittee | August 22-23, 2019.
HSR&D Health Care System Organization and Delivery Subcommittee | August 23, 2019.
HSR&D Learning Health Care System Initiative Subcommittee | August 23, 2019.

The purpose of the Board is to review health services research and development applications involving: The measurement and evaluation of health care services; the testing of new methods of health care delivery and management; and mentored research. Applications are reviewed for scientific and technical merit, mission relevance, and the protection of human and animal subjects.

Each subcommittee meeting of the Board will be open to the public the first day for approximately one half-hour from 8:00 a.m. to 8:30 a.m. at the start of the meeting to cover administrative matters and to discuss the general status of the program. Members of the public who wish to attend the open portion of the subcommittee meetings may dial 1 (800) 767-1750, participant code 10443.

The remaining portion of each subcommittee meeting will be closed (8:30 a.m. to 4:30 p.m.) for the discussion, examination, reference to, and oral review of the intramural research proposals and critiques. During the closed portion of each subcommittee meeting, discussion and recommendations will include qualifications of the personnel conducting the studies (the disclosure of which would constitute a clearly unwarranted invasion of personal privacy), as well as research information (the premature disclosure of which would likely compromise significantly the implementation of proposed agency action regarding such research projects). Closing the meetings is in accordance with 5 U.S.C. 552b (c)(6) and (c)(9)(B).

Oral or written comments will be accepted from the public only for the open portion of the meetings. Those who plan to attend the open portion of a subcommittee meeting should contact Ms. Liza Catucci, MPH, HSR&D Administrative Officer, Department of Veterans Affairs, Health Services Research and Development Service (10X2H), 810 Vermont Avenue NW, Washington, DC 20420, or by email at Liza.Catucci@va.gov. For further information, please call Ms. Catucci at (202) 443-5797.

Dated: August 1, 2019.
LaTonya L. Small,
Federal Advisory Committee Management Officer.

[FR Doc. 2019-16774 Filed 8-5-19; 8:45 am]

BILLING CODE P